DEPARTMENT OF ENERGY

Federal Energy Regulatory Commission

[Docket No. RD21-2-000]

Commission Information Collection Activities (FERC-725B2); Comment Request; Revision

AGENCY: Federal Energy Regulatory Commission, Department of Energy.

ACTION: Notice of information collection and request for comments.

SUMMARY: In compliance with the requirements of the Paperwork Reduction Act of 1995, the Federal Energy Regulatory Commission (Commission or FERC) is soliciting public comment on revisions to the information collection FERC-725B2 (Mandatory Reliability Standards for Critical Infrastructure Protection [CIP] Reliability Standards) and submitting the information collection to the Office of Management and Budget (OMB) for review. Any interested person may file comments directly with OMB and should address a copy of those comments to the Commission as explained below.

DATES: Comments on the collection of information are due June 3, 2021.

ADDRESSES: Send written comments on FERC-725B2 to OMB through www.reginfo.gov/public/do/PRAMain, Attention: Federal Energy Regulatory Commission Desk Officer. Please identify the OMB control number (1902-0304) in the subject line. Your comments should be sent within 30 days of publication of this notice in the Federal Register.

Please submit copies of your comments (identified by Docket No. RD21-2-000) to the Commission as noted below. Electronic filing through http://www.ferc.gov, is preferred.

• Electronic Filing: Documents must be filed in acceptable native applications and print-to-PDF, but not in scanned or picture format.

• For those unable to file electronically, comments may be filed by USPS mail or by hand (including courier) delivery.

• Mail via U.S. Postal Service Only: Addressed to: Federal Energy Regulatory Commission, Secretary of the Commission, 888 First Street NE, Washington, DC 20426.

• Hand (Including Courier) Delivery: Deliver to: Federal Energy Regulatory Commission, 12225 Wilkins Avenue, Rockville, MD 20852.

Instructions: OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-725B2, Mandatory Reliability Standards for Critical Infrastructure Protection [CIP] Reliability Standards.¹

¹ The reporting and recordkeeping requirements proposed in Docket No. RD21-2-000 would normally be included in FERC-725B (OMB Control No. 1902-0248). However another unrelated item under FERC-725B is pending review by the Office of Management and Budget (OMB), and only one item per OMB Control No. can be pending review at a time.

We are submitting the additional requirements (and related burden estimates) described in Docket No. RD21-2-000 to OMB under the interim information collection number FERC-725B2 in order to submit the request to OMB timely. FERC-725B continues to cover the current requirements and burden of the standards, before implementation of the additional requirements of Docket No. RD21-2-000.

OMB Control No.: 1902-0304.

Type of Request: Three-year approval of proposed changes as described in Docket No. RD21-2-000.

Abstract: The North American Electric Relaibility Corportation filed a petition with the Commission on December 14, 2020. The docket was noticed on January 7 with a 21-day comment/intervention period, ending on January 28, 2021. In response to the Notice of Information Collection and Request for Comments published in the Federal Register on February 22, 2021 (86 FR 11760), the Commission received no comments on the 60-day Paperwork Reduction Act notice. FERC issued a Commission Letter Order on March 18, 2021.²

² The Commission Letter Order is available on FERC's eLibrary system (https://elibrary.ferc.gov/eLibrary/search) by searching in Docket Number RD21-2.

FERC-725B2 contains the following information collection elements. Pursuant to Reliability Standard CIP-013-2 Requirement R1, responsible entities should update their supply chain risk management plans to include Electronic Access Control or Monitoring Systems and Physical Access Control Systems. The act of implementing the modified plans and procedures may result in additional documentation, as required by Reliability Standard CIP-013-2, Requirement R2. In addition to the above one-time paperwork requirements, pursuant to Reliability Standard CIP-013-1, Requirement R3, responsible entities are required to review their supply chain risk management plan and associated procedures every 15 months.

The technical requirements in Reliability Standard CIP-005-7, Requirement R3.1 and Requirement R3.2 are likely to result in documentation burden in year one to implement new reporting requirements.

Reliability Standard CIP-010-4, Requirement R1.6 will require modification of certain procedures, as well as initial implementation and documentation of said procedures.

The compliance-related recordkeeping requirements of the above-mentioned standards will continue on an ongoing basis beginning in year one.

Type of Respondent: Businesses or other for-profit institutions; not-for-profit institutions.

Estimate of Annual Burden: ³

³ “Burden” is the total time, effort, or financial resources expended by persons to generate, maintain, retain, or disclose or provide information to or for a Federal agency. For further explanation of what is included in the information collection burden, refer to Title 5 Code of Federal Regulations 1320.3.

The Commission estimates the total annual burden and cost ⁴ for this information collection in the table below. For hourly cost (for wages and benefits) for the reporting requirements, we estimate that

⁴ Costs (for wages and benefits) are based on wage figures from the Bureau of Labor Statistics (BLS) for May 2019 (at https://www.bls.gov/oes/current/naics2_22.htm) and benefits information issued March 19, 2020 (at https://www.bls.gov/news.release/ecec.nr0.htm).

• 2% of the time is spent by Electrical Engineers (Occupation Code: 17-2071, at $70.19/hr.),

• 15% of the time is spent by Legal (Occupation Code: 23-0000, at $142.65/hr.),

• 31.5% of the time is spent by Information Security Analysts (Occupation Code: 15-1122, at $71.47/hr.),

• 10% of the time is spent by Computer and Information Systems Managers (Occupation Code: 11-3021, at $101.58/hr.),

• 10% of the time is spent by Management (Occupation Code: 11-0000, at $97.15/hr.), and

• 31.5% of the time is spent by Management Analyst (Occupation Code: 43-0000 at $66.23/hr.).

Therefore, for reporting requirements, we use the weighted hourly cost (for wages and benefits) of $86.05.

For recordkeeping requirements, for hourly cost (for wages and benefits), we are using $41.03 for Information and Record Clerks (Occupation Code: 43-4199).

The proposed standards are not changing the reporting or recordkeeping requirements, however the proposed standards are expanding the types of assets to which the reporting and recordkeeping requirements apply.

⁵ There are 1,494 unique registered entities in the NERC compliance registry as of February 5, 2021. Of this total, we estimate that 343 entities (Balancing Authority [BA], Distribution Provider [DP], Generator Owner [GO], Generator Operator [GOP], Reliability Coordinator [RC], Transmission Owner [TO], and Transmission Operator [TOP]) will face an increased paperwork burden due to Docket No. RD21-2.

FERC-725B2, Estimated Additional Annual Burden Due to Docket No. RD21-2
Type and number of respondents ⁵ | Type of reporting or recordkeeping requirement | Annual number of respondents | Annual number of responses per respondent | Total number of annual responses | Average annual burden hours & cost ($) per response | Estimated total annual burden hours and cost ($)
|  | (A) | (B) | (A) × (B) = (C) | (D) | (C) × (D)
Reliability Standard CIP-013-2
343 (BA, DP, GO, GOP, RC, TO, and TOP) | Reporting, Implementation (one-time in Year 1) | 343 | 1 | 343 | 136 hrs.; $11,702.80 | 46,648 hrs.; $4,014,060.40.
343 (BA, DP, GO, GOP, RC, TO, and TOP) | Reporting (ongoing starting in Year 2) | 343 | 1 | 343 | 30 hrs.; $2,581.50 | 10,290 hrs.; $885,454.50.
343 (BA, DP, GO, GOP, RC, TO, and TOP) | Recordkeeping (ongoing starting in Year 1) | 343 | 1 | 343 | 5 hrs.; $205.15 | 1,715 hrs.; $70,366.45.
Sub-Total for CIP-013-2 |  |  |  |  |  | 58,653 hrs.; $4,969,881.35.
Reliability Standard CIP-005-7
343 (BA, DP, GO, GOP, RC, TO, and TOP) | Reporting, Implementation (one-time in Year 1) | 343 | 1 | 343 | 12 hrs.; $1,032.60 | 4,116 hrs.; $354,181.80.
343 (BA, DP, GO, GOP, RC, TO, and TOP) | Recordkeeping (ongoing starting in Year 1) | 343 | 1 | 343 | 3 hrs.; $123.09 | 1,029 hrs.; $42,219.87.
Sub-Total for CIP-005-7 |  |  |  |  |  | 5,145 hrs.; $396,401.67.
Reliability Standard CIP-010-4
343 (BA, DP, GO, GOP, RC, TO, and TOP) | Reporting, Implementation (one-time in Yr. 1) | 343 | 1 | 343 | 12 hrs.; $1,032.60 | 4116 hrs.; $354,181.80.
343 (BA, DP, GO, GOP, RC, TO, and TOP) | Recordkeeping (ongoing starting in Year 1) | 343 | 1 | 343 | 3 hrs.; $123.09 | 1,029 hrs.; $42,219.87.
Sub-Total for CIP-010-4 |  |  |  |  |  | 5,145 hrs.; $396,401.67.
Total Annual Burden Hrs. and Cost, due to RD21-2 |  |  |  |  |  | 68,943 hrs.; $5,762,684.69.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 29, 2021.
Kimberly D. Bose,
Secretary.

[FR Doc. 2021-09356 Filed 5-3-21; 8:45 am]

BILLING CODE 6717-01-P